DEPARTMENT OF COMMERCE

National Oceanic and Atmospheric Administration

[I.D. 012907A]

North Pacific Fishery Management Council; Public Meeting

AGENCY: National Marine Fisheries Service (NMFS), National Oceanic and Atmospheric Administration (NOAA), Commerce.

ACTION: Notice of public meetings.

SUMMARY: The North Pacific Fishery Management Council (Council) Scallop Plan Team will meet at the Anchorage Hilton Hotel, in Anchorage, AK.

DATES: The meeting will be held on February 22-23, 2007. On Thursday, February 22, the meeting will be held from 10:30 a.m. to 5 p.m., and on Friday, February 23, from 9 a.m. to 3 p.m.

ADDRESSES: The meeting will be held at the Anchorage Hilton Hotel, 500 West 3rd Avenue, 15th Floor - King Salmon Room, Anchorage, AK 99501

Council address: North Pacific Fishery Management Council, 605 W. 4th Ave., Suite 306, Anchorage, AK 99501-2252.

FOR FURTHER INFORMATION CONTACT: Diana Stram, Council staff, telephone: (907) 271-2809.

SUPPLEMENTARY INFORMATION: The agenda will include review of the Draft Assessment Review Guidelines; Discussion of current and future scallop survey techniques, discussion of Scallop population modeling feasibility; Review Status of Statewide Scallop Stocks and compile Stock Assessment and Fishery Evaluation (SAFE) Report; a Scallop observer training film presentation; and community impact discussion paper.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Gail Bendixen at (907) 271-2809 at least 7 working days prior to the meeting date.

Dated: January 30, 2007.
Tracey L. Thompson,
Acting Director, Office of Sustainable Fisheries, National Marine Fisheries Service.

[FR Doc. E7-1699 Filed 2-1-07; 8:45 am]

BILLING CODE 3510-22-S